DEPARTMENT OF HOUSING AND URBAN DEVELOPMENT

[Docket No. FR-4837-D-61]

Office of the Chief Procurement Officer Revocation and Redelegation of Procurement Authority

AGENCY: Office of the Chief Procurement Officer, HUD.

ACTION: Notice.

SUMMARY: In this Notice, the Chief Procurement Officer revokes all current redelegations of procurement authority and redelegates procurement authority to qualified Departmental employees.

DATES: Effective Date: January 30, 2007.

FOR FURTHER INFORMATION CONTACT: Gloria Sochon, Assistant Chief Procurement Officer for Policy and Systems, Office of the Chief Procurement Officer, Room 5276, Department of Housing and Urban Development, 451 Seventh Street, SW., Washington, DC 20410; telephone (202) 708-0294 (this is not a toll-free number). Hearing or speech-impaired individuals may access this number via TTY by calling the toll-free Federal Information Relay Service at 1-800-877-8339.

SUPPLEMENTARY INFORMATION: The Office of the Chief Procurement Officer has recently undergone a significant reorganization to re-align it within the Department's management structure and to consolidate all contracting authority and activity (headquarters and field-based) under the Chief Procurement Officer. The reorganization also creates four Assistant Chief Procurement Officer positions, three of which are responsible for operational contracting activities. The fourth is responsible for procurement policy and systems.

The Secretary of HUD has designated the Chief Procurement Officer as the Department's Senior Procurement Executive and transferred all Departmental procurement authority to the Chief Procurement Officer.

In this Notice, the Chief Procurement Officer revokes all existing procurement authority previously redelegated, and redelegates authority as follows:

Section A. Authority Revoked

This document revokes the Notice of Revocation and Redelegation of Procurement Authority published in the Federal Register on October 13, 1998 (63 FR 54723).

Section B. Authority Redelegated

1. The Chief Procurement Officer, designated as the Department's Senior Procurement Executive, hereby:

a. Designates the Deputy Chief Procurement Officer, the Assistant Chief Procurement Officer for Program Operations, the Assistant Chief Procurement Officer for Support Operations, and the Assistant Chief Procurement Officer for Field Operations as contracting officers; and

b. Redelegates to the Commercial Credit Card Program Administrator authority for credit card purchases within the micro-purchase threshold established in FAR Part 13. The Commercial Credit Card Program Administrator may further redelegate this authority to qualified headquarters employees.

2. In addition, the Chief Procurement Officer may redelegate authority to:

a. Qualified Office of the Chief Procurement Officer personnel, by way of Certificates of Appointment as contracting officers, to enter into, administer, and/or terminate all procurement contracts, and interagency agreements entered into under the authority of the Economy Act, for property and services required by the Department (including the placement of paid advertisements in newspapers), and make related determination and findings; and

b. Qualified Departmental employees, to engage in the following purchasing procedures:

Simplified acquisitions (FAR Part 13); and

Issuance of orders under contracts established by other Government sources in accordance with FAR Part 8, or under pre-priced indefinite-delivery contracts established by the Department.

Section C. No Authority To Further Redelegate

Except as provided above in paragraph B.1.b, the authority redelegated in Section B, does not include the authority to further redelegate.

Authority: Section 7(d), Department of Housing and Urban Development Act (42 U.S.C. 3535(d)).

Dated: January 30, 2007.
Joseph A. Neurauter,
Chief Procurement Officer.

[FR Doc. E7-2500 Filed 2-13-07; 8:45 am]

BILLING CODE 4210-67-P